DEPARTMENT OF THE INTERIOR

Bureau of Land Management

[LLNV952000 L14200000.BJ0000 241A; 12-08807; MO# 4500033715; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management, Nevada State Office, 1340 Financial Blvd., Reno, NV 89502-7147, phone: 775-861-6541. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the Nevada State Office, Reno, Nevada on January 9, 2012:

This plat, in six sheets, represents the dependent resurvey of portions of the south, east and north boundaries, a portion of the subdivisional lines, portions of the subdivision-of-section lines of certain sections, Indian Allotment No. 108, a portion of Indian Allotment No. 493, and a portion of Mineral Survey No. 4542, the subdivision of certain sections, and the further subdivision of certain sections, Township 13 North, Range 28 East, of the Mount Diablo Meridian, Nevada, under Group No. 878, was accepted January 5, 2012. This survey was executed to meet certain administrative needs of the Bureau of Indian Affairs.

2. The Plat of Survey of the following described lands was officially filed at the Nevada State Office, Reno, Nevada on February 16, 2012:

This plat represents the dependent resurvey of a portion of the east boundary and a portion of the subdivisional lines and the survey of the meanders of the 4,144-foot contour line in section 36, Township 33 North, Range 32 East, of the Mount Diablo Meridian, Nevada, under Group No. 888, was accepted February 10, 2012. This survey was executed to meet certain administrative needs of Pershing County Water Conservation District.

3. Pending additional resurveys the following portions of the listed township plats are hereby suspended, effective on this date: February 21, 2012.

Township 1 South, Range 38 East, plat approved April 14, 1884, sections 1 through 6 inclusive.

Township 1 South, Range 39 East, plat approved April 14, 1884, sections 1 through 6 inclusive.

4. The Plat of Survey of the following described lands was officially filed at the Nevada State Office, Reno, Nevada on February 22, 2012:

This supplemental plat, in one sheet, showing amended lottings in sections 7, Township 15 South, Range 66 East, Mount Diablo Meridian, Nevada, under Group No. 913, was accepted February 17, 2012. This supplemental plat was prepared to accommodate a direct land sale under the provisions of the Federal Land Policy and Management Act.

5. The Plat of Survey of the following described lands was officially filed at the Nevada State Office, Reno, Nevada on February 24, 2012:

This plat represents the dependent resurvey of the Fourth Standard Parallel South through a portion of Range 49 East and a portion of the subdivisional lines, and the subdivision of sections 3 and 4, Township 17 South, Range 49 East, of the Mount Diablo Meridian, Nevada, under Group No. 900, was accepted February 21, 2012. This survey was executed to meet certain administrative needs of the Bureau of Land Management.

6. The Plat of Survey of the following described lands was officially filed at the Nevada State Office, Reno, Nevada on March 1, 2012:

This plat, in two sheets, represents the dependent resurvey of portions of the west and north boundaries and a portion of the subdivisional lines, the subdivision of sections 6 and 18, and the survey of the meanders of portions of the 4,144-foot contour line, Township 30 North, Range 33 East, of the Mount Diablo Meridian, Nevada, under Group No. 879, was accepted February 28, 2012. This survey was executed to meet certain administrative needs of Pershing County Water Conservation District.

7. The Plats of Survey of the following described lands were officially filed at the Nevada State Office, Reno, Nevada on March 7, 2012:

A plat, in three sheets, represents the dependent resurvey of a portion of the south boundary and a portion of the subdivisional lines, the subdivision of sections 27, 34 and 35, and the metes-and-bounds surveys of certain parcel boundaries through portions of sections 27 and 34, Township 7 South, Range 61 East, of the Mount Diablo Meridian, Nevada, under Group No. 893, was accepted March 2, 2012.

A plat, in nine sheets, represents the dependent resurvey of the Second Standard Parallel South, through a portion of Range 61 east, a portion of the east boundary, a portion of the subdivisional lines, and a portion of the meanders of lower Pahranagat Lake the subdivision of certain sections and the metes-and-bounds surveys of certain parcel boundaries through portions of sections 2, 11, 14, 24 and 25, Township 8 South, Range 61 East, of the Mount Diablo Meridian, Nevada, under Group 893, was accepted March 2, 2012.

A plat, in four sheets, represents the dependent resurvey of the Second Standard Parallel South, through a portion of Range 62 east, a portion of the subdivisional lines, and a portion of the meanders of lower Pahranagat Lake the subdivision of sections 30, 31 and 32, and the metes-and-bounds surveys of certain parcel boundaries through portions of sections 30, 31 and 32, Township 8 South, Range 62 East, of the Mount Diablo Meridian, Nevada, under Group 893, was accepted March 2, 2012. The survey of the three townships listed above were executed to meet certain administrative needs of the U.S. Fish and Wildlife Service.

8. The Plat of Survey of the following described lands was officially filed at the Nevada State Office, Reno, Nevada on April 5, 2012:

This plat, in one sheet, represents the dependent resurvey of the Seventh Standard Parallel North, through a portion of Range 23 East, a portion of the subdivisional lines and the subdivision of section 4, Township 35 North, Range 23 East, of the Mount Diablo Meridian, Nevada, under Group No. 909, was accepted March 28, 2012. This survey was executed to meet certain administrative needs of the Bureau of Land Management.

The survey listed above is now the basic record for describing the lands for all authorized purposes. This survey has been placed in the open files in the Bureau of Land Management, Nevada State Office and is available to the public as a matter of information. Copies of the survey and related field notes may be furnished to the public upon payment of the appropriate fees.

Dated: April 16, 2012.
David D. Morlan,
Chief Cadastral Surveyor, Nevada.

[FR Doc. 2012-9723 Filed 4-20-12; 8:45 am]

BILLING CODE 4310-HC-P